DEPARTMENT OF COMMERCE

National Oceanic and Atmospheric Administration

RIN 0648-XD434

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 10-17, 2014. The Council meeting will begin on Friday, September 12, 2014 at 8 a.m., reconvening each day through Wednesday, September 17, 2014. All meetings are open to the public, except a closed session will be held at 8 a.m. on Friday, September 12 to address litigation and personnel matters. The Council will meet as late as necessary each day to complete its scheduled business.

ADDRESSES: Meetings of the Council and its advisory entities will be held at the DoubleTree by Hilton Spokane City Center, 322 N Spokane Falls Ct, Spokane, WA 99201; telephone: (509) 455-9600.

Council Address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Council Web site, http://www.pcouncil.org for the current meeting location, proposed agenda, and meeting briefing materials.

SUPPLEMENTARY INFORMATION: The September 12-17, 2014 meeting of the Pacific Fishery Management Council will be streamed live on the internet. The live meeting will be broadcast daily starting at 9 a.m. Pacific Time (PT) on Friday, September 12, 2014 through Wednesday, September 17, 2014. The broadcast will end daily at 6 p.m. PT or when business for the day is complete. Only the audio portion, and portions of the presentations displayed on the screen at the Council meeting, will be broadcast. The audio portion is listen-only; you will be unable to speak to the Council via the broadcast. Join the meeting by visiting this link http://www.joinwebinar.com, enter the Webinar ID for this meeting, which is 143-975-167 and enter your email address as required. It is recommended that you use a computer headset as GoToMeeting allows you to listen to the meeting using your computer headset and speakers. If you do not have a headset and speakers, you may use your telephone for the audio portion of the meeting by dialing this TOLL number 1-646-307-1724 (not a toll free number); entering the phone audio access code 671-933-090; and then entering your Audio Pin which will be shown to you after joining the webinar. The webinar is broadcast in listen only mode.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.4, Proposed Council Meeting Agenda, and will be in the advance September 2014 briefing materials and posted on the Council Web site (www.pcouncil.org).

A. Call to Order

1. Opening Remarks

2. Roll Call

3. Executive Director's Report

4. Agenda

B. Open Comment Period

Comments on Non-Agenda Items

C. Coastal Pelagic Species Management

Pacific Sardine Harvest Fraction

D. Salmon Management

1. Salmon Methodology Review

2. Lower Columbia River Coho Harvest Matrix

E. Enforcement Issues

Tri-State Fishery Enforcement Report

F. Habitat

Current Habitat Issues

G. Highly Migratory Species Management

1. National Marine Fisheries Service Report

2. International Activities

3. Preliminary Approval of Exempted Fishing Permits for 2015 Fisheries

4. New or Routine Management Measures for 2015-2016 Fisheries

H. Ecosystem Management

Unmanaged Forage Fish Protection Initiative

I. Administrative Matters

1. Legislative Matters

2. Comments on Executive Actions

3. Albatross Avoidance Briefing

4. Fiscal Matters

5. Membership Appointments and Council Operating Procedures

6. Future Council Meeting Agenda and Workload Planning

J. Groundfish Management

1. Omnibus Regulation Change Priorities

2. Stock Assessment Planning

3. Electronic Monitoring Regulatory Process Final Preferred Alternatives and Next Steps (Final Action)

4. Consideration of Inseason Adjustments (Final Action)

K. Pacific Halibut Management

2015 Pacific Halibut Catch Sharing Plan and Regulations

Schedule of Ancillary Meetings

Day 1—Wednesday, September 10, 2014

Scientific and Statistical Committee Economic Subcommittee—1 p.m.

Day 2—Thursday, September 11, 2014

Coastal Pelagic Species Advisory Subpanel—8 a.m.

Coastal Pelagic Species Management Team—8 a.m.

Highly Migratory Species Management Team—8 a.m.

Scientific and Statistical Committee—8 a.m.

Habitat Committee—8:30 a.m.

Legislative Committee—1 p.m.

Budget Committee—2:30 p.m.

Day 3—Friday, September 12, 2014

California State Delegation—7 a.m.

Oregon State Delegation—7 a.m.

Washington State Delegation—7 a.m.

Coastal Pelagic Species Advisory Subpanel—8 a.m.

Coastal Pelagic Species Management Team—8 a.m.

Ecosystem Advisory Subpanel—8 a.m.

Highly Migratory Species Advisory Subpanel—8 a.m.

Highly Migratory Species Management Team—8 a.m.

Scientific and Statistical Committee—8 a.m.

Groundfish Electronic Monitoring Policy Advisory Committee—10 a.m.

Enforcement Consultants—3 p.m.

Chair's Reception—6 p.m.

Day 4—Saturday, September 13, 2014

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad hoc

Day 5—Sunday, September 14, 2014

California State Delegation—7 a.m.

Oregon State Delegation—7 a.m.

Washington State Delegation—7 a.m.

Groundfish Advisory Subpanel—8 a.m.

Groundfish Management Team—8 a.m.

Enforcement Consultants—Ad hoc

Day 6—Monday, September 15, 2014

California State Delegation—7 a.m.

Oregon State Delegation—7 a.m.

Washington State Delegation— 7 a.m.

Groundfish Advisory Subpanel—8 a.m.

Groundfish Management Team—8 a.m.

Enforcement Consultants—Ad hoc

Day 7—Tuesday, September 16, 2014

California State Delegation—7 a.m.

Oregon State Delegation—7 a.m.

Washington State Delegation—7 a.m.

Groundfish Advisory Subpanel—8 a.m.

Groundfish Management Team—8 a.m.

Enforcement Consultants—Ad hoc

Day 8—Wednesday, September 17, 2014

California State Delegation—7 a.m.

Oregon State Delegation—7 a.m.

Washington State Delegation—7 a.m.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: August 18, 2014.
Tracey L. Thompson,
Acting Deputy Director, Office of Sustainable Fisheries, National Marine Fisheries Service.

[FR Doc. 2014-19854 Filed 8-20-14; 8:45 am]

BILLING CODE 3510-22-P